DEPARTMENT OF THE INTERIOR

Bureau of Land Management

[CO-930; COC-012292]

Public Land Order No. 7487; Partial Revocation of Public Land Order No. 1742; Colorado

AGENCY: Bureau of Land Management, Interior.

ACTION: Public land order.

SUMMARY: This order partially revokes Public Land Order No. 1742 insofar as it affects approximately 2 acres of National Forest System lands withdrawn for a roadside zone.

EFFECTIVE DATE: July 9, 2001.

FOR FURTHER INFORMATION CONTACT: Doris E. Chelius, BLM Colorado State Office, 2850 Youngfield Street, Lakewood, Colorado 80215-7093, 303-239-3706.

By virtue of the authority vested in the Secretary of the Interior by Section 204 of the Federal Land Policy and Management Act of 1976, 43 U.S.C. 1714 (1994), it is ordered as follows:

1. Public Land Order No. 1742, which withdrew National Forest System lands for a roadside zone along Colorado Highway 119, Peak-to-Peak Highway, is hereby revoked insofar as it affects the following described lands:

Sixth Principal Meridian

Roosevelt National Forest

T. 1 S., R. 73 W.,

A strip of land 200 feet north of the centerline of Colorado Highway 119 as it runs through the NE¼ of section 24 crossing lots 8, 9, 25 and 32.

The areas described aggregate approximately 2 acres in Boulder County.

2. At 9 a.m. on July 9, 2001, the lands shall be opened to such forms of disposition as may by law be made of National Forest System lands, including location and entry under the United States mining laws, subject to valid existing rights, the provisions of existing withdrawals, other segregations of record, and the requirements of applicable law. Appropriation of lands described in this order under the general mining laws prior to the date and time of restoration is unauthorized. Any such attempted appropriation, including attempted adverse possession under 30 U.S.C. 38 (1994), shall vest no rights against the United States. Acts required to establish a location and to initiate a right of possession are governed by State law where not in conflict with Federal law. The Bureau of Land Management will not intervene in disputes between rival locators over possessory rights since Congress has provided for such determinations in local courts.

Dated: May 21, 2001.
Gale A. Norton,
Secretary of the Interior.

[FR Doc. 01-14371 Filed 6-6-01; 8:45 am]

BILLING CODE 3410-11-P